DEPARTMENT OF ENERGY

Federal Energy Regulatory Commission

[Docket No. CP06-403-000]

Northern Natural Gas Company; Notice of Application

June 30, 2006.

Take notice that on June 23, 2006, Northern Natural Gas Company (Northern), 1111 South 103rd Street, Omaha, Nebraska 68124, filed in Docket No. CP06-403-000, an application pursuant to sections 7 (b) and (c) of the Natural Gas Act (NGA) and part 157 of the Commission's Regulations, for authorization to abandon certain pipeline facilities and the issuance of a certificate of public convenience and necessity to construct, modify and operate certain compression, pipeline and TBS facilities located in Iowa and Minnesota, all as more fully set forth in the application which is on file with the Commission and open to public inspection. This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

In its application, Northern asserts that the installation of the proposed facilities will provide approximately 374,000 Dth/day of incremental peak day entitlement. Northern also states the proposal herein is a result of an analysis conducted following Open Seasons soliciting interest for an expansion project in its market Area (Northern Lights) that would be effective beginning November 1, 2007. The estimated capital cost for the facilities proposed herein is $129,222,000. Northern is also requesting herein: Approval for rolled-in rate treatment of the expansion costs; approval to construct certain facilities in 2008; approval to use certain variances to the Commission's Plans and Procedures; and Commission issuance of an order granting approval for the proposed facilities as expeditiously as possible, but no later than March 1, 2007.

The National Environmental Policy Act (NEPA) review of the proposal will begin only after the Cultural Resources information required in part 380, Appendix A, Section 380.12 of the regulations has been filed with the Commission and found by staff to be sufficient.

Any questions regarding this application should be directed to Michael T. Loeffler, Director, Certificates and Government Affairs for Northern, 1111 South 103rd Street, Omaha, Nebraska 68124, at (402) 398-7103 or Donna Martens, Senior Regulatory Analyst, at (402) 398-7138.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

Comments, protests and interventions may be filed electronically via the Internet in lieu of paper. See 18 CFR 385.2001(a)(1)(iii) and the instructions on the Commission's Web site under the “e-Filing” link at http://www.ferc.gov. The Commission strongly encourages intervenors to file electronically. Persons unable to file electronically should submit an original and 14 copies of the protest or intervention to the Federal Energy Regulatory Commission, 888 First Street, NE., Washington, DC 20426.

Comment Date: July 21, 2006.

Magalie R. Salas,
Secretary.

[FR Doc. E6-10689 Filed 7-7-06; 8:45 am]

BILLING CODE 6717-01-P